DEPARTMENT OF STATE

[Public Notice: 7564]

Determination on Bilateral Assistance Relating to the Government of the Russian Federation

Pursuant to the authority vested in me by the laws of the United States, including Section 7074(b) of the Department of State, Foreign Operations, and Related Programs Appropriations Act, 2010 (Div. F, Pub. L. 111-117), as carried forward by the Full-Year Continuing Appropriations Act, 2011 (Div. B., Pub. L. 112-10) (“the Act”), I hereby determine that waiving the requirements of subsection (a) of Section 7074 of the Act is important to the national interests of the United States, and I hereby so waive.

This Determination shall be published in the Federal Register and transmitted to the Congress.

Dated: August 4, 2011.
Hillary Rodham Clinton,
Secretary of State.

[FR Doc. 2011-21537 Filed 8-22-11; 8:45 am]

BILLING CODE 4710-23-P